DEPARTMENT OF HOMELAND SECURITY

Coast Guard

33 CFR Parts 100, 110 and 165

[Docket Number USCG-2016-0949]

RIN 1625-AA08, AA01, AA87

Special Local Regulation, Temporary Anchorages and Safety Zones: Sail Boston 2017; Port of Boston, MA

AGENCY: Coast Guard, DHS.

ACTION: Notice of proposed rulemaking.

SUMMARY: The Coast Guard proposes to adopt a temporary special local regulation, multiple safety zones, and temporary spectator anchorages before, during, and after Sail Boston 2017 in the Port of Boston, Massachusetts, to be held between June 16, 2017 and June 22, 2017. These regulations are necessary to promote the safe navigation of vessels and the safety of life and property during this event. We invite your comments on this proposed rulemaking.

DATES: Comments and related material must be received by the Coast Guard on or before April 24, 2017. The Coast Guard anticipates that this proposed rule will be effective from 12:00 a.m. on June 16, 2017 until 7:00 p.m. on June 22, 2017.

ADDRESSES: You may submit comments identified by docket number USCG-2016-0949 using the Federal eRulemaking Portal at http://www.regulations.gov. See the “Public Participation and Request for Comments” portion of the SUPPLEMENTARY INFORMATION section for further instructions on submitting comments.

FOR FURTHER INFORMATION CONTACT: If you have questions about this proposed rulemaking, call or email Mark Cutter, Sector Boston Waterways Management Division, U.S. Coast Guard; telephone 617-223-4000, email Mark.E.Cutter@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

Sail Boston, Inc. is sponsoring Sail Boston 2017, which has been designated a Marine Event of National Significance by the U.S. Coast Guard. Scheduled events will occur between June 16, 2017 and June 22, 2017 in the Port of Boston. Scheduled events will consist of Tall Ships in a parade of sail into Boston Harbor on June 17, 2017, public tours of U.S. Navy vessels and Tall Ships, and a U.S. Navy Blue Angels aerial demonstration. Tall ships will depart Boston on June 22, 2017 for the restart of the Rendez-Vous 2017 Tall Ships Regatta.

The purpose of this rulemaking is to ensure the safety of vessels and spectators in the vicinity of the Port of Boston, before, during, and after the scheduled events. The Coast Guard estimates 1,000 spectator craft will attend Sail Boston 2017 events. The proposed regulations would create temporary spectator anchorage regulations, vessel movement control measures, a safety zone around each Tall Ship while anchored, transiting, and moored, and a safety zone for the restart of the Rendez-Vous 2017 Tall Ships Regatta. The proposed regulations would be in effect at various times in the Port of Boston between June 16, 2017 and June 22, 2017. Vessel congestion, due to the anticipated large number of participating and spectator vessels, poses a significant threat to the safety of life.

This rule provides for the safety of life on navigable waters and to protect the participating Tall Ships, private vessels, spectators, and the Port of Boston during these events.

The Coast Guard proposes this rulemaking under authorities in 33 U.S.C. 1233 through 1236; 49 CFR 1.46; 33 CFR 100.35, 33 U.S.C. 471; 33 U.S.C. 1221 through 1236, 2030, 2035, 2071; 49 CFR 1.46 and 33 CFR 1.05-1(g), 33 U.S.C. 1225 and 1231; 50 U.S.C. 191; 49 CFR 1.46 and 33 CFR 1.05-1(G), 6.04-1, 6.04-6, and 160.5.

III. Discussion of Proposed Rule

Sail Boston, Inc is planning to host the Tall Ships involved in the Rendez-Vous 2017 Tall Ships Regatta in the Port of Boston. The Port of Boston will be the only U.S. Port that the Rendez-Vous 2017 Tall Ships Regatta will visit. The event will commence with a parade of sail into Boston Harbor on June 17, 2017, with the participating Tall Ships mooring in various berths throughout the Port of Boston until their departure on June 22, 2017. Upon their departure on June 22, 2017, the Tall Ships will transit to a position approximately 5 nautical miles east of Rockport, MA for the restart of the Rendez-Vous 2017 Tall Ships Regatta.

At the time of this notice, Sail Boston 2017 events are expected to include the following:

1. June 16 and June 17: 100-yard safety zone surrounding each participating Tall Ship while anchored in Broad Sound;

2. June 17: 1000-yard safety zone ahead and astern and 100-yards on each side of participating Tall Ships during the Parade of Sail;

3. June 16 and June 17: Temporary spectator anchorages in effect for viewing the Parade of Tall Ships occurring on June 17, 2017;

4. June 17 through June 22: U.S. Navy Vessels and multiple Tall Ships moored in various locations throughout the Port of Boston;

5. June 17: U.S. Navy Blue Angels aerial demonstration;

6. June 17 through June 22: 25-yard safety zone around all moored Tall Ships involved in the event;

7. June 17 through June 22: Public tours of U.S. Navy vessels and Tall Ships;

8. June 17 through June 22: Vessel movement control measures in effect;

9. June 22: Safety zone established approximately 5-nautical miles east of Rockport, MA for the restart of the Rendez-Vous 2017 Tall Ships Regatta.

Temporary Spectator Anchorages

The Coast Guard proposes to add temporary section 110.T01-0949 to establish thirteen temporary spectator anchorages for spectator craft for the arrival of the participating Tall Ships on June 16, 2017 and the Sail Boston 2017 Parade of Tall Ships on June 17, 2017. This proposal also includes the temporary suspension of 33 CFR 110.138, the Boston Harbor, Massachusetts anchorage ground, during the periods the new spectator anchorages and regulations are temporarily established.

The proposed anchorage regulations would temporarily establish spectator anchorages for recreational, special use, fishing, and commercial vessels during the Sail Boston 2017 Parade of Tall Ships.

The Coast Guard proposes to establish these temporary spectator anchorages in the vicinity of Boston North Channel, Long Island, Deer Island, President Roads, and Boston Inner Harbor. The applicable dates and times for the proposed temporary spectator anchorages are from 8:00 a.m. on June 16 through 4:00 p.m. on June 17, 2017.

On June 17, 2017, following the Parade of Sail, vessel operators may depart from their respective anchorages in sequence with the movement and mooring of the final flotilla of tall ships. After the final flotilla of tall ships has passed Castle Island, vessel operators anchored in spectator anchorages east of Castle Island may depart for locations outside of Boston Harbor. After the final flotilla of tall ships has safely moored, vessel operators may depart from the remaining established spectator anchorages. Vessels transiting through Boston Harbor must proceed as directed by the Captain of the Port (COTP), Sector Boston or the COTP's representative on scene.

Special Local Regulations

In 1992, 2000, 2009, and 2012, similar events, including Sail Boston 1992, 2000, 2009, and War of 1812 in 2012, drew several hundred thousand spectators by land, as well as water, to Boston Harbor.

Recognizing the significant amount of recreational boating traffic this event is expected to draw, the Coast Guard proposes to establish a special local regulation that would create vessel movement control measures in Boston Harbor that will be in effect during the entirety of the Sail Boston 2017 event. This section would be designated as section 100.T01-0949.

This proposed special local regulation is needed to control vessel movement in order to facilitate timely law enforcement support vessels access to Maritime and transportation facilities. Additionally, the regulated areas will protect the maritime public and participating vessels from possible hazards to navigation associated with dense vessel traffic.

The proposed local regulation for vessel movement control establishes a counter-clockwise traffic pattern around Boston Inner Harbor to ensure spectator vessels are following an organized route, facilitating the smooth flow of boating traffic, thereby minimizing disruption on the waterway. A Coast Guard Patrol Commander (PATCOM) will be on-scene controlling the flow of traffic.

The waterway between the World Trade Center Pier and the Fish Pier does not constitute an area large enough for unhindered navigation. Due to the navigation restrictions in this waterway, when vessels over 125 feet enter this area, on-scene patrol personnel will halt the flow of vessel traffic and allow no other vessel to enter the channel until the larger vessel is clear of the narrow channel.

Due to concerns of tenants at the World Trade Center Pier and the Fish Pier, waterside viewing hours for Tall Ships berthed at these facilities will be limited to times specified in the regulatory text, outside of which only vessels which are tenants within the channels of the World Trade Center Pier and the Fish Pier will be authorized access.

Safety Zones

The Coast Guard is proposing to establish safety zones in section 165.T01-0949. On June 16, 2017, tall ships participating in the parade of sail will rally in Broad Sound. The Coast Guard is proposing to establish a 100-yard safety zone surrounding participating Tall Ships while they are anchored in Broad Sound. The regulation would be enforced from June 16 to June 17.

The Coast Guard is proposing to establish 1000-yard safety zones ahead and astern and 100-yards on each side of participating Tall Ships, during their transit from their anchorages in Broad Sound to the start of the parade of sail and during the parade of sail into Boston Harbor. This would be enforced on June 17, 2017.

The Coast Guard is proposing to establish 25-yard safety zones surrounding participating Tall Ships while moored. The proposed regulations would be in effect on June 16, 2017.

These restrictions are expected to minimize the risks associated with the large number of recreational vessels anticipated to be operating within the confines of Boston Inner Harbor during the event. The high density of spectators, in conjunction with the daily commercial deep draft vessel traffic, poses a significant threat to the safety of life and property.

Additionally, The Coast Guard is proposing to establish a 3000-yard by 2000-yard safety zone approximately 5 nautical miles east of Rockport, MA for the restart of the Rendez-Vous 2017 Tall Ships Regatta. This proposed regulation would be in enforced on June 22, 2017 from 4:00 p.m. until 8:00 p.m. Though we do not anticipate many spectator vessels for the restart of the regatta, this safety zone is necessary to minimize the risks associated with multiple tall ships maneuvering and preparing for the restart of the Rendez-Vous 2017 Tall Ships Regatta in a confined area.

IV. Regulatory Analyses

We developed this proposed rule after considering numerous statutes and Executive orders related to rulemaking. Below we summarize our analyses based on a number of these statutes and Executive orders and we discuss First Amendment Rights of protestors.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Executive Order 13771 (“Reducing Regulation and Controlling Regulatory Costs”), directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, the Office of Management and Budget (OMB) has not reviewed it. As this rule is not a significant regulatory action, this rule is exempt from the requirements of Executive Order 13771. See OMB's Memorandum titled “Interim Guidance Implementing Section 2 of the Executive Order of January 30, 2017 titled `Reducing Regulation and Controlling Regulatory Costs' ” (February 2, 2017).

We expect the adverse economic impact of this proposed rule to be minimal. Although this regulation may have some adverse impact on the public, the potential impact will be minimized for the following reasons:

Although this regulation imposes temporary spectator anchorages, traffic control measures, and safety zones in portions of Boston Harbor during the events, the effect of this regulation will not be significant for the following reasons: Vessels needing to depart the temporary spectator anchorages may do so with permission from the COTP's designated on-scene representative and vessels will have sufficient transit room around the outer edge of the designated anchorages. The traffic control measures are confined to areas of minimal distance, they follow the natural flow of Boston Harbor traffic, they are in compliance with the navigational rules of the road, and crossovers have been established for vessels wanting to change direction. The 25-yard safety zone around participating Tall Ships while moored will have no impact to vessel movement in Boston Harbor and will only be in place during the 5 days of Sail Boston activities. Sail Boston, Inc. over the past 6 months has held multiple public meetings discussing Sail Boston 2017 events and during each meeting, these proposals have been discussed. An extensive advance notice will be made to mariners via appropriate means, which may include broadcast notice to mariners, local notice to mariners, facsimile, marine safety information bulletin, local Port Operators Group meetings, Harbor Safety Committee meetings, the Internet, USCG Sector Boston Homeport Web page, handouts, and local newspapers and media. The advance notice will permit mariners to adjust their plans accordingly. Similar restrictions were established for other Sail Boston events in 1992, 2000, 2009, and War of 1812 in 2012. Based upon the Coast Guard's experiences from those previous events of similar magnitude, these proposed regulations have been narrowly tailored to impose the least impact on maritime interests while providing the necessary level of safety.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit Boston Harbor may be small entities, for the reasons stated in section IV.A above, this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT Section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT Section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such expenditure, we do discuss the effects of this rule elsewhere in this preamble.

F. Environment

We have analyzed this proposed rule under Department of Homeland Security Management Directive 023-01 and Commandant Instruction M16475.lD, which guide the Coast Guard in complying with the National Environmental Policy Act of 1969 (42 U.S.C. 4321-4370f), and have made a preliminary determination that this action is one of a category of actions that do not individually or cumulatively have a significant effect on the human environment. This proposed rule involves suspending permanent anchorages, proposing temporary spectator anchorages, establishing temporary safety zones, and traffic control measures to facilitate the safety of all vessels participating, watching the Parade of Tall Ships and the viewing of the moored Tall Ships during the Sail Boston 2017 event. Such actions are categorically excluded from further review under paragraphs 34(4), (g), and (h) of Figure 2-1 of Commandant Instruction M16475.lD. A preliminary environmental analysis checklist and Categorical Exclusion Determination are available in the docket where indicated under ADDRESSES. We seek any comments or information that may lead to the discovery of a significant environmental impact from this proposed rule.

G. Protest Activities

The Coast Guard respects the First Amendment Rights of protesters. Protesters are asked to contact the person listed in the FOR FURTHER INFORMATION CONTACT Section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT Section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this NPRM as being available in the docket, and all public comments, will be in our online docket at http://www.regulations.gov and can be viewed by following that Web site's instructions. Additionally, if you go to the online docket and sign up for email alerts, you will be notified when comments are posted or a final rule is published.

List of Subjects

33 CFR Part 100

Marine safety, Navigation (water), Reporting and recordkeeping requirements, and Waterways.

33 CFR Part 110

Anchorages Grounds.

33 CFR Part 165

Harbors, Marine safety, Navigation (water), Reporting and record keeping requirements, Security measures, Waterways.

For the reasons discussed in the preamble, the Coast Guard proposes to amend 33 CFR parts 100, 110, and 165 as follows:

PART 100—REGATTAS AND MARINE PARADES

1. The authority citation for part 100 continues to read as follows:

Authority: 33 U.S.C. 1233 through 1236; 49 CFR 1.46; 33 CFR 100.35.

2. Add § 100.T01-0949 to read as follows:

§ 100.T01-0949 Special Local Regulation: Sail Boston 2017; Port of Boston, MA

(a) Location: This special local regulation establishes a regulated area to include all waters west of a line drawn from the monument at Castle Island in approximate position 42°20′21″ N., 71°00′37″ W., to the Logan Airport Security Zone Buoy “24” in approximate position 42°20′45″ N., 71°00′29″ W., and then to land in approximate position 42°20′48″ N., 71°00′27″ W., including the Reserved Channel to the Summer Street retractile bridge in approximate position 42°20′34″ N., 71°02′11″ W., the Charles River to the Gridley Locks at the Charles River Dam in approximate position 42°22′07″ N., 71°03′40″ W., the Mystic River at the Alford Street Bridge in approximate position 42°23′22″ N., 71°04′16″ W., and the Chelsea River to the McArdle Bridge in approximate position 42°23′09″ N., 71°02′21″ W.

(b) Special Local Regulations. (1) During the effective period, vessel operators transiting through the regulated area shall proceed in a counterclockwise direction at no wake speeds not to exceed five knots, unless otherwise authorized by the Captain of the Port.

(2) Vessel operators shall comply with the directions and orders of the COTP or the COTP's representative, upon being hailed by siren, radio, flashing lights, or other means. The COTP's representative may be any Coast Guard commissioned, warrant, or petty officer or any Federal, state, or local law enforcement officer who has been designated by the COTP to act on the COTP's behalf. The COTP's representative may be on a Coast Guard vessel, a Coast Guard Auxiliary vessel, a federal, state or local law enforcement or safety vessel, or a location on shore.

(3) From 4:00 p.m. on June 17, 2017 through 8:00 a.m. on June 22, 2017, vessel control measures will be implemented. The traffic pattern will be in a counterclockwise rotation, such that all vessels shall stay generally as far to the starboard side of the channel as is safe and practicable.

(4) To facilitate commercial ferry traffic with minimal disruption, commercial ferries within the regulated area, moving between stops on their normal routes, will be exempt from the mandatory counterclockwise traffic pattern. This exemption does not give ferries navigational precedence or in any way alter their responsibilities under the Rules of the Road or any other pertinent regulations.

(5) Vessel operators transiting the waterway between the World Trade Center and Fish Pier must enter and keep to the starboard side of the channel, proceeding as directed by the on-scene COTP's representative. Vessel traffic shall move in a counterclockwise direction around a turning point as marked by an appropriate on-scene COTP's representative.

(6) Vessel operators transiting this area must maintain at least a twenty five (25) yard safe distance from all participating Sail Boston Tall Ships and must make way for all deep draft vessel traffic underway in the area.

(7) When a vessel greater than 125 feet enters the waterway between the World Trade Center and the Fish Pier, no other vessel will be allowed to enter until the larger vessel departs that area, unless authorized by the on-scene COTP's representative.

(8) From 10:00 p.m. through 8:00 a.m. daily, while the regulated area is in effect, only vessels which are tenants within the channels of the World Trade Center and the Fish Pier will be authorized access.

(9) The COTP may control the movement of all vessels operating on the navigable waters of Boston Harbor when the COTP has determined that such orders are justified in the interest of safety by reason of weather, visibility, sea conditions, temporary port congestion, or other temporary hazards circumstance.

(10) To obtain permissions required by this regulation, individuals may reach the COTP or a COTP representative via VHF channel 16 or 617-223-5757 (Sector Boston Command Center).

(11) Penalties. Those who violate this section are subject to the penalties set forth in 33 U.S.C. 1232 and 50 U.S.C. 192.

(c) Enforcement Period. This regulation is will be enforced from 4:00 p.m. on June 17, 2017 through 8:00 a.m. on June 22, 2017.

PART 110—ANCHORAGES GROUND

3. The authority citation for part 110 continues to read as follows:

Authority: 33 U.S.C. 471; 33 U.S.C. 1221 through 1236, 2030, 2035, 2071; 49 CFR 1.46 and 33 CFR 1.05-1(g).

§ 110.138 [Suspended]

4. From 8:00 a.m. on June 16 through 4:00 p.m. on June 17, 2017, suspend § 110.138.

5. Add § 110.T01-0949 to read as follows:

§ 110.T01-0949 Temporary Anchorages: Sail Boston 2017; Port of Boston, MA.

(a) Anchorages. All anchorages in this paragraph are applicable as specified. Vessel operators using the anchorages in this paragraph must comply with the general operational requirements specified in paragraph (b) and (c) of this section. All coordinates are NAD 1983.

(1) Anchorage 1. (i). All waters bounded by the following coordinates: 42°22′06″ N./071°02′43″ W., 42°22′11″ N./071°02′39″ W., 42°22′07″ N./071°02′32″ W., and 42°22′03″ N./071°02′35″ W.

(ii) This anchorage ground is designated for the exclusive use of recreational vessels that are 45 feet or less in length and have superstructures that do not exceed 10 feet in height.

(2) Anchorage 2. (i) All waters bounded by the following coordinates: 42°21′41″ N./071°02′25″ W., 42°21′47″ N./071°02′20″ W., 42°21′35″ N./071°01′53″ W., and 42°21′29″ N./071°01′58″ W.

(ii) This anchorage ground is designated for the exclusive use of recreational vessels that are 45 feet or less in length and have superstructures that do not exceed 10 feet in height.

(3) Anchorage 3. (i) All waters bounded by the following coordinates: 42°21′26″ N./071°01′51″ W., 42°21′32″ N./071°01′47″ W., 42°21′25″ N./071°01′33″ W., and 42°21′19″ N./071°01′37″.

(ii) This anchorage ground is designated for the exclusive use of recreational vessels that are 45 feet or less in length and their height above water does not to exceed 50 feet.

(4) Anchorage 4. (i) All waters bounded by the following coordinates: 42°21′19″ N./071°01′37″ W., 42°21′25″ N./071°01′33″ W., 42°21′09″ N./071°01′02″ W., and 42°21′04″ N./071°01′06″.

(ii) This anchorage ground is designated for the exclusive use of inspected and uninspected small passenger vessels (certificated by the Coast Guard under Subchapters T and K of Title 46, Code of Federal Regulations), and charter vessels that do not exceed 50 feet in height above the water line.

(5) Anchorage 5. (i) All waters bounded by the following coordinates: 42°21′04″ N./071°01′06″ W., 42°21′09″ N./071°01′02″ W., 42°20′48″ N./071°00′29″ W., and 42°20′47″ N./071°00′29″.

(ii) This anchorage ground is designated for the exclusive use of inspected and uninspected small passenger vessels (certificated by the Coast Guard under Subchapters T and K of Title 46, Code of Federal Regulations), and charter vessels that do not exceed 50 feet in height above the water line.

(6) Anchorage 6. (i) All waters bounded by the following coordinates: 42°20′09″ N./070°59′39″ W., 42°20′23″ N./070°59′32″ W., 42°20′19″ N./071°59′17″ W., and 42°20′07″ N./070°59′24″.

(ii) This anchorage ground is designated for the exclusive use of recreational vessels.

(7) Anchorage 7. (i) All waters bounded by the following coordinates: 42°20′06″ N./070°59′23″ W., 42°20′36″ N./070°59′06″ W., 42°20′34″ N./070°58′31″ W., and 42°20′05″ N./070°58′45″.

(ii) This anchorage ground is designated for the exclusive use of recreational vessels.

(8) Anchorage 8. (i) All waters bounded by the following coordinates: 42°20′06″ N./070°58′43″ W., 42°20′35″ N./070°58′28″ W., 42°20′33″ N./070°57′29″ W., and 42°20′05″ N./070°57′31″.

(ii) This anchorage ground is designated a general anchorage with no restrictions.

(9) Anchorage 9. (i) All waters bounded by the following coordinates: 42°19′45″ N./070°59′55″ W., 42°19′58″ N./070°59′55″ W., 42°19′57″ N./070°58′47″ W., and 42°19′44″ N./070°58′47″.

(ii) This anchorage ground is designated as general transient anchorage for all vessels that do not exceed 50 feet in height above the water line, with no overnight anchoring. This anchorage is only applicable from 6 a.m. on June 17, 2017 until 4 p.m. on June 17, 2017.

(10) Anchorage 10. (i) All waters bounded by the following coordinates: 42°19′44″ N./070°58′44″ W., 42°19′58″ N./070°58′47″ W., 42°19′55″ N./070°57′28″ W., and 42°19′43″ N./070°57′35″.

(ii) This anchorage ground is designated for the exclusive use of recreational vessels with no overnight anchoring. This anchorage is only applicable from 6 a.m. on June 17, 2017 until 4 p.m. on June 17, 2017.

(11) Anchorage 11. (i) All waters bounded by the following coordinates: 42°20′30″ N./070°56′30″ W., 42°21′58″ N./070°56′05″ W., and 42°21′32″ N./070°55′27″.

(ii) This anchorage ground is designated for the exclusive use of late arriving recreational vessels and no overnight anchoring. This anchorage is only applicable from 6 a.m. on June 17, 2017 until 4 p.m. on June 17, 2017.

(12) Anchorage 12. (i) All waters bounded by the following coordinates: 42°20′07″ N./070°56′28″ W., 42°21′43″ N./070°54′51″ W., 42°21′18″ N./070°54′29″ W., and 42°20′05″ N./070°55′51″.

(ii) This anchorage ground is designated for the exclusive use of late arriving recreational vessels and no overnight anchoring. This anchorage is only applicable from 6 a.m. on June 17, 2017 until 4 p.m. on June 17, 2017.

(13) Anchorage 13. (i) All waters bounded by the following coordinates: 42°19′55″ N./070°56′40″ W., 42°20′06″ N./070°56′28″ W., 42°20′05″ N./070°55′51″ W., and 42°19′51″ N./070°56′05″.

(ii) This anchorage ground is designated for the exclusive use of inspected and uninspected small passenger vessels (certificated by the Coast Guard under Subchapters T and K of Title 46, Code of Federal Regulations), and charter vessels. This anchorage is only applicable from 6 a.m. on June 17, 2017 until 4 p.m. on June 17, 2017.

(b) The regulations. The anchorages designated in paragraphs (a)(1) through (13) of this section are subject to the following regulations:

(1) General Operational Requirements for all anchorages. Vessel operators using any of the anchorages established in this section shall:

(i) Ensure their vessels are properly anchored and remain safely in position at anchor during marine events.

(ii) Vessel operators shall comply with the directions and orders of the COTP or the COTP's representatives, upon being hailed by siren, radio, flashing lights, or other means. The COTP's representative may be any Coast Guard commissioned, warrant, or petty officer or any Federal, state, or local law enforcement officer who has been designated by the COTP to act on the COTP's behalf. The COTP's representative may be on a Coast Guard vessel, a Coast Guard Auxiliary vessel, a federal, state, or local law enforcement or safety vessel, or a location on shore.

(iii) Vacate anchorages after termination of their effective periods.

(iv) Buoy with identifiable markers and release anchors fouled on lobster trap lines if such anchors cannot be freed or raised.

(v) Display anchor lights when anchoring at night in any anchorage.

(vi) Do not leave vessels unattended in any anchorage at any time.

(vii) Do not tie off to any aid to navigation or buoy.

(ix) Maintain at least 20 feet of clearance if maneuvering between anchored vessels.

(x) Do not nest or tie off to other vessels in that anchorage.

(xi) Based on COTP approval and direction, vessels commercially engaged in the collection and legal disposal of marine sewage may operate within spectator anchorages during the applicable periods.

(c) Enforcement dates. This section will be enforced from 8:00 a.m. on June 16, 2017 through 4:00 p.m. on June 17, 2017 unless otherwise noted.

NOTE TO § 110.T01-0949: Caution: The designated spectator anchorages in this section have not been specially surveyed or inspected and navigational charts may not show all seabed obstructions or shallowest depths. Additionally, the anchorages are in areas of substantial currents. Mariners who use these temporary anchorages should take appropriate precautions, including using all means available to ensure vessels are not dragging anchor.

PART 165—REGULATED NAVIGATION AREAS AND LIMITED ACCESS AREAS

6. The authority citation for part 165 continues to read as follows:

Authority: 33 U.S.C. 1225 and 1231; 50 U.S.C. 191; 49 CFR 1.46 and 33 CFR 1.05-1(G), 6.04-1, 6.04-6, and 160.5.

7. Add § 165.T01-0949 to read as follows:

§ 165.T01-0949 Safety Zone: Sail Boston 2017; Port of Boston, MA.

(a) Location. The following are safety zones (all coordinates are NAD 1983):

(1) All navigable waters from surface to bottom, within a 100-yard radius of each participating Tall Ship while anchored in Broad Sound.

(2) All navigable waters from surface to bottom, within 1000-yards ahead and astern and 100-yards on each side of participating Tall Ships, during their transit from anchorage to mooring.

(3) All navigable waters from surface to bottom, within 25-yards surrounding participating Tall Ships while moored at various locations throughout the Port of Boston.

(4) All navigable waters from surface to bottom, bounded within the following points (NAD 83): From 42°39.00′ N., 070°26.00′ W., thence to 42°39.00′ N., 070°24.00′ W., thence to 42°38.00′ N., 070°24.00′ W., thence to 42°38.00′ N N., 070°26.00′ W., thence to the first point.

(b) Regulations. While these safety zones are being enforced, the following regulations, along with those contained in 33 CFR 165.23, apply:

(1) No person or vessel may enter or remain in a safety zone without the permission of the COTP, Sector Boston or the COTP's representative.

(2) Any person or vessel permitted to enter the safety zones shall comply with the directions and orders of the COTP or the COTP's representative. Upon being hailed by siren, radio, flashing lights, or other means, the operator of a vessel within the zone shall proceed as directed. Any person or vessel within the security zone shall exit the zone when directed by the COTP or the COTP's representative.

(3) To obtain permissions required by this regulation, individuals may reach the COTP or a COTP representative via VHF channel 16 or 617-223-5757 (Sector Boston Command Center) to obtain permission.

(4) Penalties. Those who violate this section are subject to the penalties set forth in 33 U.S.C. 1232 and 50 U.S.C. 192.

(c) COTP Representative. The COTP's representative may be any Coast Guard commissioned, warrant, or petty officer or any Federal, state, or local law enforcement officer who has been designated by the COTP to act on the COTP's behalf. The COTP's representative may be on a Coast Guard vessel, a Coast Guard Auxiliary vessel, a federal, state or local law enforcement or safety vessel, or a location on shore.

(d) Enforcement dates. Paragraph (a)(1) of this section is applicable on June 16, 2017 through June 17, 2017. Paragraph (a)(2) of this section is applicable on June 16, 2017. Paragraph (a)(3) of this section is applicable on June 17, 2017 through June 22, 2017. Paragraph (a)(4) of this section is applicable on June 22, 2017 from 4:00 p.m. until 8:00 p.m.

Dated: March 17, 2017.
C.C. Gelzer,
Captain, U.S. Coast Guard, Captain of the Port Boston.

[FR Doc. 2017-05748 Filed 3-23-17; 8:45 am]

BILLING CODE 9110-04-P